OFFICE OF THE UNITED STATES TRADE REPRESENTATIVE

Designation of Senior Agency Official Under Executive Order 12958

AGENCY: Office of the United States Trade Representative.

ACTION: Notice of designation of “Senior Agency Official” for certain purposes under section 5.6 of Executive Order 12958 entitled “Classified National Security Information.”

SUMMARY: The General Counsel of the Office of the U.S. Trade Representative has been designated as the senior agency official for purposes of section 1.8(d) of Executive Order 12958 and has the authority, along with the United States Trade Representative (USTR) and the Deputy USTRs, to classify or re-classify information that has not previously been disclosed to the public after a request for it has been received under the Freedom of Information Act (FOIA) or the Privacy Act of 1974.

FOR FURTHER INFORMATION CONTACT: The FOIA Office, Office of the U.S. Trade Representative, 600 17th Street, NW., Washington, DC 20508. The telephone number is (202) 395-3419.

SUPPLEMENTARY INFORMATION: Executive Order 12958 (“the Order”) provides that heads of agencies that originate or handle classified information shall designate one or more senior agency officials to carry out certain duties and responsibilities under the Order. On May 10, 2001, U.S. Trade Representative Robert Zoellick designated the position of General Counsel as a “Senior Agency Official” pursuant to the provisions of section 5.6 of the Order. The General Counsel shall have the authority to classify or re-classify information after a request has been received under the Freedom of Information Act, 5 U.S.C. 552, or the Privacy Act of 1974, 5 U.S.C. 552a, so long as that information has not previously disclosed to the public. Such classification or re-classification shall be done in a manner that meet the requirements of the Order and on a document-by-document basis.

Sybia Harrison,
Agency FOIA Officer.

[FR Doc. 01-14147 Filed 6-5-01; 8:45 am]

BILLING CODE 3190-01-M